DEPARTMENT OF ENERGY

Federal Energy Regulatory Commission

Combined Notice of Filings #1

Take notice that the Commission received the following electric corporate filings:

Docket Numbers: EC22-69-000.

Applicants: Broad River Energy LLC, KMC Thermo, LLC, Onward Thermal Holdings, LLC.

Description: Joint Application for Authorization Under Section 203 of the Federal Power Act of Broad River Energy LLC, et al.

Filed Date: 5/31/22.

Accession Number: 20220531-5430.

Comment Date: 5 p.m. ET 6/21/22.

Docket Numbers: EC22-70-000.

Applicants: Texpo Power, LP, EnerPenn USA LLC.

Description: Joint Application for Authorization Under Section 203 of the Federal Power Act of Texpo Power, LP, et al.

Filed Date: 5/31/22.

Accession Number: 20220531-5434.

Comment Date: 5 p.m. ET 6/21/22.

Take notice that the Commission received the following exempt wholesale generator filings:

Docket Numbers: EG22-132-000.

Applicants: Sheppard Mullin Richter & Hampton LLP.

Description: Tres City Power submits Request for Commission Certification of Exempt Wholesale Generator Status.

Filed Date: 6/1/22.

Accession Number: 20220601-5057.

Comment Date: 5 p.m. ET 6/22/22.

Docket Numbers: EG22-133-000.

Applicants: Wolf Tank Storage LLC.

Description: Wolf Tank Storage LLC submits Request for Commission Certification of Exempt Wholesale Generator Status.

Filed Date: 6/1/22.

Accession Number: 20220601-5058.

Comment Date: 5 p.m. ET 6/22/22.

Docket Numbers: EG22-134-000.

Applicants: Sheppard Mullin Richter & Hampton LLP.

Description: Tres Port Power LLC submits Request for Commission Certification of Exempt Wholesale Generator Status.

Filed Date: 6/1/22.

Accession Number: 20220601-5060.

Comment Date: 5 p.m. ET 6/22/22.

Take notice that the Commission received the following electric rate filings:

Docket Numbers: ER14-1480-001.

Applicants: KMC Thermo, LLC.

Description: Compliance filing: Informational Filing Pursuant to Schedule 2 of the PJM.

Filed Date: 5/31/22.

Accession Number: 20220531-5354.

Comment Date: 5 p.m. ET 6/21/22.

Docket Numbers: ER20-1997-001.

Applicants: Cheyenne Light, Fuel and Power Company.

Description: Compliance filing: Order No. 864 Supplemental Compliance Filing to be effective 1/27/2020.

Filed Date: 6/1/22.

Accession Number: 20220601-5164.

Comment Date: 5 p.m. ET 6/22/22.

Docket Numbers: ER21-1555-002.

Applicants: New Mexico Wind, LLC.

Description: Compliance filing: Compliance Filing for Live Tariff Records in ER21-1555 to be effective 3/31/2021.

Filed Date: 6/1/22.

Accession Number: 20220601-5074.

Comment Date: 5 p.m. ET 6/22/22.

Docket Numbers: ER22-1991-000.

Applicants: New England Power Pool Participants Committee.

Description: § 205(d) Rate Filing: June 2022 Membership Filing to be effective 5/1/2022.

Filed Date: 5/31/22.

Accession Number: 20220531-5335.

Comment Date: 5 p.m. ET 6/21/22.

Docket Numbers: ER22-1992-000.

Applicants: Consolidated Edison Company of New York, Inc.

Description: § 205(d) Rate Filing: PASNY Tariff Value Stack Comp 5-31-2022 to be effective 6/1/2022.

Filed Date: 5/31/22.

Accession Number: 20220531-5352.

Comment Date: 5 p.m. ET 6/21/22.

Docket Numbers: ER22-1993-000.

Applicants: Louisiana Generating LLC.

Description: Request to Recover Costs Associated with Acting as a Local Balancing Authority of Louisiana Generating LLC.

Filed Date: 5/31/22.

Accession Number: 20220531-5369.

Comment Date: 5 p.m. ET 6/21/22.

Docket Numbers: ER22-1994-000.

Applicants: PJM Interconnection, L.L.C.

Description: § 205(d) Rate Filing: Original ISA, Service Agreement No. 6473; Queue No. AE1-153 to be effective 5/3/2022.

Filed Date: 6/1/22.

Accession Number: 20220601-5044.

Comment Date: 5 p.m. ET 6/22/22.

Docket Numbers: ER22-1995-000.

Applicants: Alabama Power Company.

Description: § 205(d) Rate Filing: Attachment S (APCO) 2022 Updated Depreciation Rates Filing to be effective 1/1/2023.

Filed Date: 6/1/22.

Accession Number: 20220601-5054.

Comment Date: 5 p.m. ET 6/22/22.

Docket Numbers: ER22-1996-000.

Applicants: Alabama Power Company.

Description: § 205(d) Rate Filing: Attachment S (SEGCO) 2022 Updated Depreciation Rates Filing to be effective 1/1/2023.

Filed Date: 6/1/22.

Accession Number: 20220601-5055.

Comment Date: 5 p.m. ET 6/22/22.

Docket Numbers: ER22-1997-000.

Applicants: Southern Electric Generating Company.

Description: § 205(d) Rate Filing: SEGCO 2022 Updated Depreciation Rates Filing to be effective 1/1/2023.

Filed Date: 6/1/22.

Accession Number: 20220601-5056.

Comment Date: 5 p.m. ET 6/22/22.

Docket Numbers: ER22-1998-000.

Applicants: Midcontinent Independent System Operator, Inc.

Description: § 205(d) Rate Filing: 2022-06-01_SA 2829 Entergy Arkansas-Pine Bluff Energy 1st Rev GIA (J328 J1425) to be effective 5/19/2022.

Filed Date: 6/1/22.

Accession Number: 20220601-5075.

Comment Date: 5 p.m. ET 6/22/22.

Docket Numbers: ER22-1999-000.

Applicants: Number Three Wind LLC.

Description: Baseline eTariff Filing: Application for Market-Based Rate Authorization to be effective 8/1/2022.

Filed Date: 6/1/22.

Accession Number: 20220601-5085.

Comment Date: 5 p.m. ET 6/22/22.

Docket Numbers: ER22-2000-000.

Applicants: Deseret Generation & Transmission Co-operative, Inc.

Description: § 205(d) Rate Filing: 2022 RIA Annual Update and Amend to be effective 7/1/2022.

Filed Date: 6/1/22.

Accession Number: 20220601-5094.

Comment Date: 5 p.m. ET 6/22/22.

Docket Numbers: ER22-2001-000.

Applicants: Black Hills Power, Inc.

Description: § 205(d) Rate Filing: Filing of Amended and Restated Standard LGIA with Fall River Solar, LLC to be effective 6/2/2022.

Filed Date: 6/1/22.

Accession Number: 20220601-5107.

Comment Date: 5 p.m. ET 6/22/22.

Docket Numbers: ER22-2002-000.

Applicants: PJM Interconnection, L.L.C.

Description: § 205(d) Rate Filing: Amendment to WMPA SA No. 5556; Queue No. AE1-123 to be effective 12/10/2019.

Filed Date: 6/1/22.

Accession Number: 20220601-5121.

Comment Date: 5 p.m. ET 6/22/22.

Docket Numbers: ER22-2003-000.

Applicants: PJM Interconnection, L.L.C.

Description: § 205(d) Rate Filing: Original ISA, Service Agreement No. 6466; Queue No. AE1-040 to be effective 5/22/2022.

Filed Date: 6/1/22.

Accession Number: 20220601-5125.

Comment Date: 5 p.m. ET 6/22/22.

Docket Numbers: ER22-2004-000.

Applicants: PacifiCorp.

Description: Compliance filing: OATT Revised LGIP & SGIP Compliance Filing to be effective 4/1/2022.

Filed Date: 6/1/22.

Accession Number: 20220601-5134.

Comment Date: 5 p.m. ET 6/22/22.

Docket Numbers: ER22-2005-000.

Applicants: PJM Interconnection, L.L.C.

Description: § 205(d) Rate Filing: ISA, SA No. 5561; Queue No. AC1-043/AD1-115 to be effective 5/6/2022.

Filed Date: 6/1/22.

Accession Number: 20220601-5157.

Comment Date: 5 p.m. ET 6/22/22.

Docket Numbers: ER22-2006-000.

Applicants: Gulf Power Company

Description: Compliance filing: Order No. 676-J Compliance Filing to be effective 12/31/9998.

Filed Date: 6/1/22.

Accession Number: 20220601-5180.

Comment Date: 5 p.m. ET 6/22/22.

Docket Numbers: ER22-2007-000.

Applicants: Duke Energy Florida, LLC, Duke Energy Progress, LLC, Duke Energy Carolinas, LLC.

Description: § 205(d) Rate Filing: Duke Energy Florida, LLC submits tariff filing per 35.13(a)(2)(iii: Revisions to Attachments J and K to Joint OATT to be effective 8/1/2022.

Filed Date: 6/1/22.

Accession Number: 20220601-5225.

Comment Date: 5 p.m. ET 6/22/22.

Docket Numbers: ER22-2008-000.

Applicants: SEPV Sierra, LLC.

Description: Baseline eTariff Filing: Market-Based Rate Application to be effective 6/2/2022.

Filed Date: 6/1/22.

Accession Number: 20220601-5240.

Comment Date: 5 p.m. ET 6/22/22.

Take notice that the Commission received the following qualifying facility filings:

Docket Numbers: QF22-681-000.

Applicants: goCDG Credits 28, LLC.

Description: Form 556 of goCDG Credits 28, LLC.

Filed Date: 5/31/22.

Accession Number: 20220531-5420.

Comment Date: 5 p.m. ET 6/21/22.

Docket Numbers: QF22-682-000.

Applicants: goCDG Credits 100, LLC.

Description: Form 556 of goCDG Credits 100, LLC.

Filed Date: 5/31/22.

Accession Number: 20220531-5422.

Comment Date: 5 p.m. ET 6/21/22.

Take notice that the Commission received the following electric reliability filings:

Docket Numbers: RR22-3-000.

Applicants: North American Electric Reliability Corporation.

Description: North American Electric Reliability Corporation's Report of Comparisons of Budgeted to Actual Costs for 2021 for NERC and the Regional Entities.

Filed Date: 6/1/22.

Accession Number: 20220601-5063.

Comment Date: 5 p.m. ET 6/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2022.
Debbie-Anne A. Reese,
Deputy Secretary.

[FR Doc. 2022-12239 Filed 6-6-22; 8:45 am]

BILLING CODE 6717-01-P